DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 19, 2005.

Interested persons are invited to submit written comments regarding the subject matter of the investigations to the Director, Division of Trade Adjustment Assistance, at the address shown below, not later than December 19, 2005.

The petitions filed in this case are available for inspection at the Office of the Director, Division of Trade Adjustment Assistance, Employment and Training Administration, U.S. Department of Labor, Room C-5311, 200 Constitution Avenue, NW., Washington, DC 20210.

Signed at Washington, DC this 22nd day of November 2005.
Erica R. Cantor,
Director, Division of Trade Adjustment Assistance.

Appendix
[TAA Petitions Instituted Between 11/7/05 and 11/11/05]
TA-W | Subject firm (petitioners) | Location | Date of institution | Date of petition
58282 | Kone (IAM) | Moline, IL | 11/07/05 | 11/04/05
58283 | Hartz and Company, Inc. (Comp) | Broadway, VA | 11/07/05 | 11/01/05
58284 | Volvo Construction Equipment, NA (Wkrs) | Skyland, NC | 11/07/05 | 11/03/05
58285 | Sax Hosiery, Inc. () | Gibsonville, NC | 11/07/05 | 10/31/05
58286 | Honeywell, Inc. (State) | Coon Rapids, MN | 11/07/05 | 11/07/05
58287 | Agilent Technologies, Inc. (Wkrs) | Loveland, CO | 11/08/05 | 10/26/05
58288 | Alcoa (Comp) | Frederick, MD | 11/08/05 | 11/07/05
58289 | Eaton (IBEW) | Beaver, PA | 11/08/05 | 11/07/05
58290 | Collins and Aikman (Comp) | Lowell, MA | 11/08/05 | 11/07/05
58291 | M. Swift and Sons, Inc. (State) | Hartford, CT | 11/08/05 | 11/08/05
58292 | Tembec USA, LLC (Comp) | St. Francisville, LA | 11/08/05 | 10/27/05
58293 | DeVaughn Woodworks, Inc. (Comp) | Marietta, MS | 11/08/05 | 10/09/05
58294 | Celanese Emulsions Corporation (IBB) | Meredosia, IL | 11/08/05 | 10/18/05
58295 | Pixelworks, Inc. (Wkrs) | Tualatin, OR | 11/09/05 | 11/04/05
58296 | Kimberly-Clarke (Comp) | Pocatello, ID | 11/09/05 | 11/03/05
58297 | Revcor Molded Products (Wkrs) | Haltom City, TX | 11/09/05 | 11/03/05
58298 | Messier Services, Inc. (Comp) | Sterling, VA | 11/09/05 | 10/31/05
58299 | Tecumseh Products Co. (Comp) | Corinth, MS | 11/09/05 | 11/08/05
58300 | Kentucky Derby Hosiery Company (Comp) | Wytheville, VA | 11/09/05 | 11/08/05
58301 | Xerox (State) | Wilsonville, OR | 11/09/05 | 11/08/05
58302 | Lenox China (Wkrs) | Oxford, NC | 11/09/05 | 11/08/05
58303 | Ciba Specialty Chemicals (State) | Charlotte, NC | 11/09/05 | 11/08/05
58304 | Viking Polymer Solutions, LLC (UAW) | Albion, NY | 11/09/05 | 11/09/05
58305 | TRW Automotive (Wkrs) | Fremont, OH | 11/10/05 | 11/09/05
58306 | MECO Corporation (Comp) | Greeneville, TN | 11/10/05 | 11/04/05
58307 | Agilent Technologies (Comp) | Santa Rosa, CA | 11/10/05 | 11/08/05
58308 | Fordyce Picture Frames Co. (State) | Fordyce, AR | 11/10/05 | 11/09/05
58309 | OBG Manufacturing Company (UFCW) | Liberty, KY | 11/10/05 | 11/09/05
58310 | Resource, Inc. (Comp) | Tallmadge, OH | 11/10/05 | 11/10/05
58311 | Abbott Laboratories (Wkrs) | Abbott, IL | 11/10/05 | 11/09/05
58312 | Gilbert Hose (Comp) | Hickory, NC | 11/10/05 | 11/09/05
58313 | Superior Essex (Comp) | Brownsville, TX | 11/10/05 | 11/09/05
58314 | Jessica Trimmings (State) | Hialeah, FL | 11/10/05 | 11/10/05
58315 | C and J Jewelry Company (Comp) | Providence, RI | 11/10/05 | 11/09/05

[FR Doc. E5-6990 Filed 12-6-05; 8:45 am]

BILLING CODE 4510-30-P